DEPARTMENT OF COMMERCE

[ Docket No. 160809701-6701-01]

Privacy Act of 1974, Amended System of Records

AGENCY: National Oceanic and Atmospheric Administration, U.S. Department of Commerce.

ACTION: Notice of an Amended Privacy Act System of Records: COMMERCE/NOAA-11, Contact Information for Members of the Public Requesting or Providing Information Related to NOAA's Mission.

SUMMARY: In accordance with the Privacy Act of 1974, as amended, and Office of Management and Budget (OMB) Circular A-130, Appendix I, “Federal Agency Responsibilities for Maintaining Records About Individuals,” the Department of Commerce (Department) is issuing a notice of intent to establish an amended system of records entitled, “COMMERCE/NOAA-11, Contact Information for Members of the Public Requesting or Providing Information Related to NOAA's Mission.” Amendments (updates) were made to categories of individuals, categories of records, and purpose, as well as to the lists of system locations and system managers and addresses. Updates also include the addition of a new routine use for student volunteers, individuals working under a personal services contract, and other workers who technically do not have the status of Federal employees.

DATES: To be considered, written comments must be submitted on or before February 13, 2017. Unless comments are received, the amended system of records will become effective as proposed on February 21, 2017. If comments are received, the Department will publish a subsequent notice in the Federal Register within 10 days after the comment period closes, stating that the current system of records will remain in effect until publication of a final action in the Federal Register.

ADDRESSES: Comments may be mailed to Sarah Brabson, NOAA Office of the Chief Information Officer, Room 9856, 1315 East-West Highway, SSMC3, Silver Spring, MD 20910.

FOR FURTHER INFORMATION CONTACT: Sarah Brabson, NOAA Office of the Chief Information Officer, Room 9856, 1315 East-West Highway, Silver Spring, MD 20910.

SUPPLEMENTARY INFORMATION: The National Oceanic and Atmospheric Administraton (NOAA), pursuant to Title 5 of the United States Code (U.S.C.) sections 552a(e)(4) and (11); is amending this system of records to include development of satellite data system user agreements with government or non-government entities, and to allow further communication and information sharing with these entities. This system of records notice encompasses all NOAA systems which collect, store and/or disseminate contact information for members of the public requesting or providing information related to NOAA's mission. Information collections would be requested from individuals under the authority of 5 U.S.C. 301, Departmental Regulations and 15 U.S.C. 1512, Powers and duties of Department. The collection of information is necessary to facilitate communication with, and share mission-related information with, the public. NOAA would collect information from individuals in order to provide and acquire NOAA mission-related data. The resulting system of records, as amended, appears below.

COMMERCE/NOAA-11

SYSTEM NAME:

Contact Information for Members of the Public Requesting or Providing Information Related to NOAA's Mission.

SECURITY CLASSIFICATION:

None.

SYSTEM LOCATION:

1. National Environmental Satellite, Data, and Information Service (NESDIS):

a. NOAA5004, Data Collection System: (1) NSOF: 4231 Suitland Rd., Suitland, Md 20746. (2) Wallops: U.S. Department of Commerce, NOAA Wallops CDA Station, 35663 Chincoteague Road, Wallops, Virginia 23337.

b. NOAA5009, National Climatic Data Center Local Area Network: Federal Building, Room 311, 151 Patton Avenue, Asheville, NC 28801.

NOAA5010, National Oceanographic Data Center: 1315 East West Highway, Silver Spring, MD 20910.

c. NOAA5036, National Coastal Data Development Center Local Area Network: 1021 Balch Blvd., Stennis Space Center, MS 39529.

d. NOAA5036 Mirror Site: 25 Broadway, E/GC4, Boulder, CO 80305.

e. NOAA5040, Comprehensive Large Array-data Stewardship System: 2110 Pleasant Valley Road, Fairmont, WV 26554.

f. NOAA5045, NOAA Environmental Satellite Processing Center: 4231 Suitland Rd., Suitland, MD 20746.

2. National Marine Fisheries Service (NMFS):

a. NOAA4010, NMFS Headquarters Local Area Network: 1315 East West Highway, Silver Spring, MD 20910.

b. NOAA4960, Honolulu, HI Pacific Islands Fisheries Science Center Local Area Network: 2570 Dole Street, Honolulu, HI 96822.

3. National Ocean Service (NOS):

a. NOAA6001, NOS Enterprise Information System: 1305 East West Highway, Floor 13, Silver Spring, MD 20910.

b. NOAA6101, Coastal Services Center (CSC) Information Technology Support System: 2234 S. Hobson Ave., Charleston, SC 29405.

c. NOAA6301, National Centers for Coastal Ocean Science (NCCOS) Research Support System: 1305 East West Highway, 13th Floor, Silver Spring, MD 20910.

d. NOAA6501, Office of Coast Survey (OCS) Nautical Charting System: 1315 East West Highway, Floors 5, 6 & 7, Silver Spring, MD 20910.

4. National Weather Service (NWS):

a. NOAA8860, National Centers for Environmental Prediction: 5830 University Research Court, College Park, MD 20740.

b. NOAA8874, National Operations Hydrologic Remote Sensing Center, 1735 Lake Dr. West, Chanhassen, MN 55317.

c. NOAA8884, Southern Region Headquarters, 819 Taylor St., Rm. 10A05C, Fort Worth, TX 76102.

d. NOAA8885, Western Region Headquarters, 125 South State St., Salt Lake City, UT 84103.

CATEGORIES OF INDIVIDUALS COVERED BY THE SYSTEM:

Members of the public requesting information. Members of the public (non-NOAA researchers), who provide information to NOAA for dissemination to the public. Members of the public who are users of NOAA data or access NOAA information who provide information to NOAA in order to gain access to or use NOAA information.

CATAGORIES OF RECORDS IN THE SYSTEM:

This information is collected and/or maintained by all systems covered by this system of records: Name, address, email address, telephone number (business or private, by individuals' choice), organization name, address and position if applicable, as well as affected public classification (whether they are government (foreign, federal, state, local or tribal, or non-government (public or private agencies).

AUTHORITY FOR MAINTENANCE OF THE SYSTEM:

5 U.S.C. 301, Departmental Regulations and 15 U.S.C. 1512, Powers and duties of Department.

PURPOSES:

This information will allow NOAA to contact customers who have requested data, will participate or have participated in NOAA conferences, meetings and trainings, as well as those researchers providing data and making presentations. Maintenance of this contact information allows further communication and information sharing, as well as a mechanism for customer surveys with the goal of improving services. Maintenance and use of this contact information will also be used to improve user experience, electronic accessibility, and functionality of NOAA information.

ROUTINE USES OF RECORDS MAINTAINED IN THE SYSTEM, INCLUDING CATEGORIES OF USERS AND PURPOSES OF SUCH USES:

1. In the event that a system of records maintained by the Department to carry out its functions indicates a violation or potential violation of law or contract, whether civil, criminal or regulatory in nature and whether arising by general statute or particular program statute or contract, rule, regulation, or order issued pursuant thereto, or the necessity to protect an interest of the Department, the relevant records in the system of records may be referred to the appropriate agency, whether Federal, State, local, or foreign, charged with the responsibility of investigating or prosecuting such violation or charged with enforcing or implementing the statute or contract, rule, regulation, or order issued pursuant thereto, or protecting the interest of the Department.

2. A record from this system of records may be disclosed, as a routine use, to a Federal, state or local agency maintaining civil, criminal or other relevant enforcement information or other pertinent information, such as current licenses, if necessary to obtain information relevant to a Department decision concerning the assignment, hiring or retention of an individual, the issuance of a security clearance, the letting of a contract, or the issuance of a license, grant or other benefit.

3. A record from this system of records may be disclosed, as a routine use, to a Federal, state, local, or international agency, in response to its request, in connection with the assignment, hiring or retention of an individual, the issuance of a security clearance, the reporting of an investigation of an individual, the letting of a contract, or the issuance of a license, grant, or other benefit by the requesting agency, to the extent that the information is relevant and necessary to the requesting agency's decision on the matter.

4. A record from this system of records may be disclosed in the course of presenting evidence to a court, magistrate, hearing officer or administrative tribunal, including disclosures to opposing counsel in the course of settlement negotiations, administrative appeals and hearings.

5. A record in this system of records may be disclosed to a Member of Congress submitting a request involving an individual when the individual has requested assistance from the Member with respect to the subject matter of the record.

6. A record in this system of records which contains medical information may be disclosed, as a routine use, to the medical advisor of any individual submitting a request for access to the record under the Act and 15 CFR part 4b if, in the sole judgment of the Department, disclosure could have an adverse effect upon the individual, under the provision of 5 U.S.C. 552a(f)(3) and implementing regulations at 15 CFR part 4b.26.

7. A record in this system of records may be disclosed, as a routine use, to the Office of Management and Budget in connection with the review of private relief legislation as set forth in OMB Circular No. A-19 at any stage of the legislative coordination and clearance process as set forth in that Circular.

8. A record in this system of records may be disclosed to the Department of Justice in connection with determining whether the Freedom of Information Act (5 U.S.C. 552) requires disclosure thereof.

9. A record in this system of records may be disclosed to a contractor of the Department having need for the information in the performance of the contract but not operating a system of records within the meaning of 5 U.S.C. 552a(m).

10. A record in this system may be transferred, as a routine use, to the Office of Personnel Management: For personnel research purposes; as a data source for management information; for the production of summary descriptive statistics and analytical studies in support of the function for which the records are collected and maintained; or for related manpower studies.

11. A record from this system of records may be disclosed, as a routine use, to the Administrator, General Services Administration (GSA), or his designee, during an inspection of records conducted by GSA as part of that agency's responsibility to recommend improvements in records management practices and programs, under authority of 44 U.S.C. 2904 and 2906. Such disclosure shall be made in accordance with the GSA regulations governing inspection of records for this purpose, and any other relevant (i.e. GSA or Commerce) directive. Such disclosure shall not be used to make determinations about individuals.

12. A record in this system of records may be disclosed to appropriate agencies, entities and persons when: (1) It is suspected or determined that the security or confidentiality of information in the system of records has been compromised; (2) the Department has determined that as a result of the suspected or confirmed compromise there is a risk of harm to economic or property interests, identity theft or fraud, or harm to the security or integrity of this system or whether systems or programs (whether maintained by the Department or another agency or entity) that rely upon the compromised information; and (3) the disclosure made to such agencies, entities, and persons is reasonably necessary to assist in connection with the Department's efforts to respond to the suspected or confirmed compromise and to prevent, minimize, or remedy such harm.

13. A record in this system of records may be disclosed to student volunteers, individuals working under a personal services contract, and other workers who technically do not have the status of Federal employees, when they are performing work for the Department and/or its agencies, as authorized by law, as needed to perform their assigned Agency functions.

DISCLOSURE TO CONSUMER REPORTING AGENCIES:

Disclosure to consumer reporting agencies pursuant to 5 U.S.C. 552a(b)(12) may be made from this system to “consumer reporting agencies” as defined in the Fair Credit Reporting Act (15 U.S.C. 1681a(f)) and the Federal Claims Collection Act of 1966 (31 U.S.C. 3701(a)(3)).

POLICIES AND PRACTICES FOR STORING, RETRIEVING, ACCESSING, RETAINING, AND DISPOSING OF RECORDS IN THE SYSTEM:

STORAGE:

Computerized database (in some instances, also CDs; back-up files stored on tape and/or paper records stored in file folders in locked metal cabinets and/or locked rooms).

RETRIEVABILITY:

Records are organized and retrieved by category of entity.

SAFEGUARDS:

The system of records is stored in a building with doors that are locked during and after business hours. Visitors to the facility must register with security guards and must be accompanied by Federal personnel at all times. Paper records are stored in a locked room and/or a locked file cabinet. Electronic records containing Privacy Act information are protected by a user identification/password. The user identification/password is issued to individuals as authorized by authorized personnel.

All electronic information disseminated by NOAA adheres to the standards set out in Appendix III, Security of Automated Information Resources, OMB Circular A-130; the Computer Security Act (15 U.S.C. 278g-3 and 278g-4); and the Government Information Security Reform Act, Public Law 106-398; and follows NIST SP 800-18, Guide for Developing Security Plans for Federal Information Systems; NIST SP 800-26, Security Self-Assessment Guide for Information Technology Systems; and NIST SP 800-53, Recommended Security Controls for Federal Information Systems. NIST 800-122 recommended security controls for protecting Personally Identifiable Information are in place. The Federal Information Processing Standard (FIPS) 199, Standards for Security Categorization of Federal Information and Information Systems, security impact category for these systems is moderate or higher, except for two systems: NOAA4960 and NOAA6101. Contractors that have access to the system are subject to information security provisions in their contracts required by Department policy.

RETENTION AND DISPOSAL:

All records are retained and disposed of in accordance with National Archive and Records Administration regulations (36 CFR Chapter XII, Subchapter B—Records Management); Departmental directives and comprehensive records schedules; NOAA Administrative Order 205-01; and the NMFS Records Disposition Schedule, Chapters 1200, 1300, 1400, 1500 and 1600.

SYSTEM MANGER(S) AND ADDRESS:

For records at location 1., NESDIS:

a. NOAA5004, Mark Hall, U.S. Department of Commerce, NOAA Wallops CDA Station, 35663 Chincoteague Road, Wallops, Virginia 23337.

b. NOAA5009, John Jensen, Federal Building, Room 311, 151 Patton Avenue, Asheville, NC 28801.

c. NOAA5010, Parmesh Dwivedi, 1315 East West Highway, Silver Spring, MD 20910.

d. NOAA5036: Juanita Sandidge, 1021 Balch Blvd., Stennis Space Center, MS 39529.

e. NOAA 5036 Mirror Site: 25 Broadway, E/GC4, Boulder, CO 80305.

f. NOAA5040: Kern Witcher, 2110 Pleasant Valley Road, Fairmont, WV 26554.

g. NOAA5045: Linda Stathoplos, 4231 Suitland Rd., Suitland, MD 20746.

For records at location 2., NMFS:

a. NOAA4010: Kevin Schulke, 1315 East West Highway, Silver Spring, MD 20910.

b. NOAA4960: Donald Tieman, 2570 Dole Street, Honolulu, HI 96822.

For records at location 3., NOS:

a. NOAA6001: Tim Morris, 1305 East West Highway, Floor 13, Silver Spring, MD 20910.

b. NOAA6101: Paul Scholz, 2234 S. Hobson Ave, Charleston, SC 29405.

c. NOAA6301: Linda Matthews, 1305 East West Highway, 13th Floor, Silver Spring, MD 20910.

d. NOAA6501: Kathryn Ries, 1315 East West Highway, Floors 5, 6 & 7, Silver Spring, MD 20910.

For records at location 4., NWS:

a. NOAA8860: David Glotfelty, 5830 University Research Court, College Park, MD 20740.

b. NOAA8874: Andy Rost, National Operations Hydrologic Remote Sensing Center, 1735 Lake Dr. West, Chanhassen, MN 55317.

c. NOAA8884: John Duxby, Southern Region Headquarters, 819 Taylor St., Rm. 10A05C, Fort Worth, TX 76102.

d. NOAA8885: Sean Wink, Western Region Headquarters, 125 South State St., Salt Lake City, UT 84103.

NOTIFICATION PROCEDURE:

Individuals seeking to determine whether information about them is contained in this system should address written inquiries to the National or Line Office Privacy Act Officers:

Privacy Act Officer, NOAA, 1305 East West Highway, Room 7437, Silver Spring, MD 20910.

Privacy Act Officer, NESDIS, 1335 East West Highway, Room 8245, Silver Spring, MD 20910.

Privacy Act Officer, NMFS, 1315 East West Highway, Room 10843, Silver Spring, MD 20910.

Privacy Act Officer, NOS, 1305 East West Highway, Rm. 13236, Silver Spring, MD 20910.

Privacy Act Officer, NWS, 1325 East West Highway, Room 18426, Silver Spring, MD 20910.

Written requests must be signed by the requesting individual. Requestor must make the request in writing and provide his/her name, address, and date of the request and record sought. All such requests must comply with the inquiry provisions of the Department's Privacy Act rules which appear at 15 CFR part 4, Appendix A.

RECORD ACCESS PROCEDURES:

Requests for access to records maintained in this system of records should be addressed to the same address given in the Notification section above.

CONTESTING RECORD PROCEDURES:

The Department's rules for access, for contesting contents, and appealing initial determinations by the individual concerned are provided for in 15 CFR part 4, Appendix A.

RECORD SOURCE CATEGORIES:

Information in this system will be collected from individuals requesting or providing NOAA mission-related information.

EXEMPTIONS CLAIMED FOR THE SYSTEM:

None.

Michael J. Toland,
Department of Commerce, Deputy Chief FOIA Officer, Department Privacy Act Officer.

[FR Doc. 2017-00494 Filed 1-11-17; 8:45 am]

BILLING CODE 3510-22-P